DEPARTMENT OF HEALTH AND HUMAN SERVICES

Centers for Disease Control and Prevention

Mallinckrodt Chemical Company, Destrehan Street Plant

AGENCY: Centers for Disease Control and Prevention (CDC), Department of Health and Human Services (HHS).

ACTION: Notice.

SUMMARY: The Department of Health and Human Services gives notice of a decision to evaluate a petition submitted on behalf of a class of employees at the Mallinckrodt Chemical Company, Destrehan Street Plant, in Saint Louis, Missouri to determine whether all or some part of the class should be included in the Special Exposure Cohort under the Energy Employees Occupational Illness Compensation Program Act of 2000. The initial proposed definition for the class being evaluated, subject to revision as warranted by the evaluation, is as follows:

Facility: Mallinckrodt Chemical Company, Destrehan Street Plant, Saint Louis, Missouri.

Locations: All locations in the Destrehan Street Plant.

Job Titles and/or Job Duties: All employees that conducted Atomic Energy Commission (AEC) work at the Destrehan Street Plant.

Period of Employment: 1942-1957.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: December 13, 2004.
James D. Seligman,
Associate Director for Program Services, Centers for Disease Control and Prevention.

[FR Doc. 04-27812 Filed 12-17-04; 8:45 am]

BILLING CODE 4163-19-P